DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July and August, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,673; BP Exploration (Alaska), Inc., Anchorage, AK

TA-W-38, 909; Dorsey Trainers, Inc., Elba, AL

TA-W-39,082; Birmingham Steel Corp., Joliet, IL

TA-W-39,409; General Cable Corp., Communication-Datacom Div., Cass City, MI

TA-W-38,899; Federal Mogul Corp., Powertrain Div., Malden, MO

TA-W-38,882; Thalman Manufacturing Co., Inc., Hempstead, NY

In the following cases, the investigation revealed that the criteria for eligibility have not been met for the reasons specified.

Increased imports did not contribute importantly to worker separations at the firm.

TA-W-39,322; Behr Robotics, Inc., Formerly Durr Robotics/Alstom, Rochester Hills, MI

TA-W-39,608; Advanced Flex, Inc., Minnetonka, MN

TA-W-38,760; Biddeford Textile Corp., Biddeford, ME

TA-W-39,697; Kopper Industries, Inc., Carbon Materials & Chemical Div., Follansbee, WV

TA-W-39,599; Dyna-Craft Industries, Inc., Apollo, PA

TA-W-39,554; Nova Dye and Print Corp., Waterbury, CT

TA-W-38,929; Akzo-Nobel Aerospace Coatings, Inc., Brownsville, TX

The workers firm does not produce an article as required for certification under Section 222 of the Trade Act of 1974.

TA-W-39,439; Sunoco Lube Service Center, Tulsa, OK

The investigation revealed that criteria (1) has not been met. A significant number or proportion of the workers did not become totally or partially separated from employment as required for certification

TA-W-39,065 & A; Mundy Industrial Contractors, Kinston, NC and Leland, NC

Affirmative Determinations for Worker Adjustment Assistance

The following certifications have been issued; the date following the company name and location of each determination references the impact date for all workers of such determination.

TA-W-39,663; Oxford Shift Group, Vidalia, GA: July 3, 2000

TA-W-39,274; Berne Apparel, Inc., Portland, Indiana Plant, Portland, IN: May 4, 2000

TA-W-39,656; Boston Scientific Northwest Technology Center, Inc., Redmond, WA: June 29, 2000

TA-W-38,720; M & S Sewing, Inc., Van Nuys, CA: January 29, 2000

TA-W-39,602; ADD Spirit, Inc., Twin City, GA: June 21, 2000

TA-W-39,647; H. Oritsky, Reading, PA: July 2, 2000

TA-W-39,571 & A; Auburn Sportswear, Brookhaven, MS and Hartwell Industries, Hartwell, GA: June 25, 2000

TA-W-39,013 & A; Boise Cascade Corp., Timber and Wood Products, Idaho Region, Cascade, IN and Emmett, ID: April 2, 2000

TA-W-39,612; York Sportswear Co., Inc., Hurtsboro, AL: June 29, 2000

TA-W-39,021; Ferry Cap and Set Screw Co., Cleveland, OH: June 20, 2000

TA-W-39,469; Tarkett, Inc., Whitehall, PA: May 27, 2001

TA-W-39,358; Turner Industries II, Ltd, Bowling Green, KY: May 14, 2000

TA-W-38,982; Lyons Falls Pulp and Paper, Inc., Lyons Falls, NY: March 9, 2000

TA-W-39,399; Lomac LLC, Muskegon, MI: May 18, 2000

TA-W-39,332; Heckett Multiserve, Div. Of Harsco Corp., Employed at GST Steel Company, Kansas City, MO: May 9, 2000

TA-W-39,525; Maxxim Medical, Eaton Glove Plant, Eaton, OH: June 2, 2000

TA-W-38,842; Wisconsin Machine Tool Corp., West Allis, WI: March 6, 2000

TA-W-39,493; Tennessee Machine and Hosiery, Inc., Dandridge, TN: June 7, 2000

TA-W-39,411; Johnson Electric Automotive, Inc., Johnson Electric Automotive Motors, Columbus, MS: May 22, 2000

TA-W-39,491 & A; Stearns, Inc., Paynesville, MN and Sauk Rapids, MN: May 31, 2000

TA-W-39,504 & A; Mayflower Manufacturing Co., Inc., Old Forge, PA: May 4, 2001 and Triple “A” Trouser, Scranton, PA: May 5, 2001

Also, pursuant to Title V of the North American Free Trade Agreement Implementation Act (P.L. 103-182) concerning transitional adjustment assistance with Section 250(a), Subchapter D, Chapter 2, Title II, of the Trade Act as amended, the Department of Labor presents summaries of determinations regarding eligibility to apply for NAFTA-TAA issued during the month of July and August, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04804; Birmingham Steel Corp., Joliet, IL

NAFTA-TAA-04907; General Cable Corp., Communications-Datacom Div., Cass City, MI

NAFTA-TAA-04980; Lomac LLC: Muskegon, MI

NAFTA-TAA-04960; Behr Robotics, Inc., Formerly Durr Robotics/Alstom, Rochest Hills, MI

NAFTA-TAA-04693; Thalman Manufacturing Co., Inc., Hempstead, NY

NAFTA-TAA-04680; Textron Fastening Systems, Thermoplastics Operations, Mishawaka, IN

NAFTA-TAA-04726; Boise Cascade Corp., Timber and Wood Products, Idaho Region, Cascade, ID

NAFTA-TAA-05026; Townsend Engineered Products, Textron Fastening Systems—Automotive Div., Spencer, TN

NAFTA-TAA-04662; Federal Mogul Corp., Powertrain Div., Malden, MO

NAFTA-TAA-04657; Pelton Casteel, Inc., Milwaukee, WI

The investigation revealed that the criteria for eligibility have not been met for the reasons specified.

The workers firm does not produce an article as required for certification under Section 222 of the Trade Act of 1974.

NAFTA-TAA-05041; Seagate Technology, Inc., OKC 1020 Div., Oklahoma City, OK

Affirmative Determinations NAFTA-TAA

NAFTA-TAA-04883; Motorola, Inc., iDen Subscriber Div., Plantation, FL: May 14, 2000

NAFTA-TAA-04987; Tennessee Machine & Hosiery, Inc., Dandridge, TN: June 7, 2000

NAFTA-TAA-05122; Maxxim Medical, Eaton Glove Plant, Eaton, OH: June 14, 2000

NAFTA-TAA-04937; Jordana, Inc., Medley, FL: May 21, 2000

NAFTA-TAA-04943; Akzo-Nobel Aerospace Coatings, Inc., Brownsville, TX: March 20, 2000

NAFTA-TAA-04725; Lyons Falls Pulp and Paper, Inc., Lyons Falls, NY: March 24, 2000

NAFTA-TAA-04726A; Boise Cascade Corp., Timber and Wood Products, Idaho Region, Emmett, ID: All workers engaged in employment related to the production of plywood who become totally or partially separated on or after April 2000

NAFTA-TAA-04991; Triple “A” Trouser, Scranton, PA: May 5, 2001

NAFTA-TAA-04990; Mayflower Manufacturing Co., Inc., Old Forge, PA: May 4, 2001

NAFTA-TAA-04870; Berne Apparel, Inc., Portland, Indiana Plant, Portland, IN: May 3, 2000

NAFTA-TAA-04984; Tarkett, Inc., Whitehall, PA: May 27, 2001

NAFTA-TAA-04557; M & S Sewing, Inc., Van Nuys, CA: January 29, 2000

I hereby certify that the aforementioned determinations were issued during the month of July and August, 2001. Copies of these determinations are available for inspection in Room C-5311, U.S. Department of Labor, 200 Constitution Avenue, NW., Washington, DC 20210 during normal business hours or will be mailed to persons who write to the above address.

Dated: August 7, 2001.
Edward A. Tomchick,
Director, Division of Trade Adjustment Assistance.

[FR Doc. 01-20539 Filed 8-14-01; 8:45 am]

BILLING CODE 4510-30-M